DEPARTMENT OF TRANSPORTATION

Federal Transit Administration

49 CFR Part 604

[Docket No. FTA-2005-22657]

RIN 2132-AA85

Charter Service Negotiated Rulemaking Advisory Committee

AGENCY: Federal Transit Administration (FTA), DOT.

ACTION: Notice of meeting location and time of the meeting.

SUMMARY: This notice lists the location and time of the next Charter Bus Negotiated Rulemaking Advisory Committee (CBNRAC) meeting.

DATES: Effective Date: October 13, 2006.

FOR FURTHER INFORMATION CONTACT: Elizabeth Martineau, Attorney-Advisor, Office of the Chief Counsel, Federal Transit Administration, 202-366-1936 (elizabeth.martineau@dot.gov). Her mailing address at the Federal Transit Administration is 400 Seventh Street, SW., Room 9316, Washington, DC 20590.

SUPPLEMENTARY INFORMATION:

Meeting Location

Department of Transportation, 400 Seventh Street, SW., Room 6244, Washington, DC 20590.

Meeting Time

October 25th, 9 a.m.-4:30 p.m.

October 26th, 8:30 a.m.-4 p.m.

Issued this 6th day of October, 2006, in Washington, DC.
James S. Simpson,
Administrator.

[FR Doc. E6-16939 Filed 10-12-06; 8:45 am]

BILLING CODE 4910-13-P